DEPARTMENT OF JUSTICE

Drug Enforcement Administration

Manufacturer of Controlled Substances; Notice of Registration; Correction

By Notice dated July 19, 2005, and published in the Federal Register on July 27, 2005 (70 FR 43457), Siegfried (USA), Inc., was granted registration as a bulk manufacturer of the basic class of controlled substances listed in the notice. Oxycodone (9143) and Morphine (9300) were inadvertently omitted from the list of controlled substances for Siegfried (USA), Inc., Industrial Park Road, Pennsville, New Jersey 08070. The Notice of Registration published on July 27, 2005 (70 FR 43457), should be corrected to include Oxycodone (9143) and Morphine (9300).

Dated: February 6, 2006.
Joseph T. Rannazzisi,
Deputy Assistant Administrator, Office of Diversion Control, Drug Enforcement Administration.

[FR Doc. E6-1903 Filed 2-10-06; 8:45 am]

BILLING CODE 4410-09-P